DEPARTMENT OF JUSTICE

Notice of Proposed Settlement Agreement Under the Oil Pollution Act

Notice is hereby given that the United States of America, on behalf of the Department of the Interior (“DOI”) acting through the U.S. Fish and Wildlife Service, is providing an opportunity for public comment on a proposed non-judical settlement agreement (“Settlement Agreement”) among the Department of the Interior, the Texas General Land Office, the Texas Commission on Environmental Quality, and the Texas Parks and Wildlife Department (collectively “Trustees”) and AET, Inc., Ltd. and AET Ship Management, PTE., Ltd. (collectively, “AET”).

The Settlement Agreement resolves the civil claims of the Trustees against AET arising by virtue of their natural resource trustee authority under the Oil Pollution Act of 1990, 33 U.S.C. 2702, and applicable state law, for injury to, impairment of, destruction of, loss of, diminution of value of, and/or loss of use of natural resources resulting from the January 23, 2010 discharge of sour crude oil into the Sabine-Neches Waterway in the City of Port Arthur, Jefferson County, Texas at or from the T/V Eagle Otome as a result of the T/V Eagle Otome's collision with the towboat Dixie Vengeance.

Under the proposed Settlement Agreement, AET agrees to pay $400,000 to the Trustees, as follows: $311,492 to the DOI Natural Resource Damage Assessment and Restoration Fund to be used to restore, replace, rehabilitate, and/or acquire the equivalent of those natural resources and their services injured by the discharge of oil and for the Trustees' restoration planning and oversight of restoration implementation; and $88,508 for Trustees' past assessment costs. AET will receive from the Trustees a covenant not to sue for the claims resolved by the settlement, subject to reservations and reopeners.

The publication of this notice opens a period for public comment on the proposed Settlement Agreement. Comments on the proposed Settlement Agreement should be addressed to the Assistant Attorney General, Environment and Natural Resources Division, and should refer to the Eagle Otome Settlement Agreement, DJ Ref. No. 90-5-1-1-12446. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.75 (25 cents per page reproduction cost) payable to the United States Treasury.

Thomas Carroll,
Assistant Section Chief, Environmental Enforcement Section, Environment and Natural Resources Division.

[FR Doc. 2023-09682 Filed 5-5-23; 8:45 am]

BILLING CODE 4410-15-P